DEPARTMENT OF ENERGY

Federal Energy Regulatory Commission

Combined Notice of Filings #2

Take notice that the Commission received the following electric corporate filings:

Docket Numbers: EC13-152-000.

Applicants: Capital Power Investments LLC, Rumford Power Inc., Emera Incorporated.

Description: Joint Application for Authorization of Disposition of Securities and Facilities Under Section 203 of the Federal Power Act, Request for Expedited Consideration and Waivers, and Request for Privileged Treatment of Capital Power, et al.

Filed Date: 9/20/13.

Accession Number: 20130920-5051.

Comments Due: 5 p.m. ET 10/11/13.

Take notice that the Commission received the following electric rate filings:

Docket Numbers: ER13-77-002.

Applicants: Tucson Electric Power Company.

Description: OATT Order No. 1000 Regional Compliance Filing (September 2013) to be effective 12/31/9998.

Filed Date: 9/20/13.

Accession Number: 20130920-5065.

Comments Due: 5 p.m. ET 10/21/13.

Docket Numbers: ER13-78-002.

Applicants: UNS Electric, Inc.

Description: OATT Order No. 1000 Regional Compliance Filing (September 2013) to be effective 12/31/9998.

Filed Date: 9/20/13.

Accession Number: 20130920-5066.

Comments Due: 5 p.m. ET 10/21/13.

Docket Numbers: ER13-79-002.

Applicants: Public Service Company of New Mexico.

Description: Order 1000 IntraRegional Compliance Filing to be effective 12/31/9998.

Filed Date: 9/20/13.

Accession Number: 20130920-5032.

Comments Due: 5 p.m. ET 10/21/13.

Docket Numbers: ER13-82-002.

Applicants: Arizona Public Service Company.

Description: OATT Order No. 1000 Compliance Filing to be effective 12/31/9998.

Filed Date: 9/20/13.

Accession Number: 20130920-5064.

Comments Due: 5 p.m. ET 10/21/13.

Docket Numbers: ER13-1225-001.

Applicants: Midcontinent Independent System Operator, Inc.

Description: 09-20-2013 Sch 43B Harbor Beach Comp Filing to be effective 10/1/2012.

Filed Date: 9/20/13.

Accession Number: 20130920-5062.

Comments Due: 5 p.m. ET 10/11/13.

Docket Numbers: ER13-2169-000.

Applicants: Goal Line L.P.

Description: Supplement to August 16, 2013 Goal Line L.P. tariff filing.

Filed Date: 9/20/13.

Accession Number: 20130920-5055.

Comments Due: 5 p.m. ET 10/11/13.

Docket Numbers: ER13-2408-000.

Applicants: ISO New England Inc., Bangor Hydro Electric Company.

Description: BHE and ISO-NE Filing of New LSAs to be effective 9/19/2013.

Filed Date: 9/20/13.

Accession Number: 20130920-5063.

Comments Due: 5 p.m. ET 10/11/13.

Take notice that the Commission received the following electric securities filings:

Docket Numbers: ES13-56-000.

Applicants: Transource Missouri, LLC.

Description: Application of Transource Missouri, LLC for Authorization Under Section 204(A) of the Federal Power Act to Borrow Up to $350 Million.

Filed Date: 9/20/13.

Accession Number: 20130920-5059.

Comments Due: 5 p.m. ET 10/11/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 20, 2013.
Nathaniel J. Davis, Sr.,
Deputy Secretary.

[FR Doc. 2013-23572 Filed 9-26-13; 8:45 am]

BILLING CODE 6717-01-P